ENVIRONMENTAL PROTECTION AGENCY

40 CFR Part 751

[EPA-HQ-OPPT-2019-0080; FRL-10000-22]

RIN 2070-AK34

Regulation of Persistent, Bioaccumulative, and Toxic Chemicals Under TSCA Section 6(h); Extension of Comment Period

AGENCY: Environmental Protection Agency (EPA).

ACTION: Notice; extension of comment period.

SUMMARY: In the Federal Register of July 29, 2019, EPA proposed a rule concerning certain persistent, bioaccumulative, and toxic chemicals identified pursuant to section 6(h) of the Toxic Substances Control Act (TSCA). These five chemicals are: decabromodiphenyl ether; phenol, isopropylated phosphate (3:1), also known as tris(4-isopropylphenyl) phosphate; 2,4,6-tris(tert-butyl)phenol; hexachlorobutadiene; and pentachlorothiophenol. The proposed rule, if finalized, would restrict or prohibit manufacture (including import), processing, and distribution in commerce for many uses of four of these five chemical substances. EPA evaluated the uses of hexachlorobutadiene and proposed no regulatory action. For the other four, the proposal included recordkeeping requirements. Additional downstream notification requirements were proposed for phenol, isopropylated phosphate (3:1). This document extends the comment period for 31 days, from September 27, 2019, to October 28, 2019.

DATES: Comments, identified by docket identification (ID) number EPA-HQ-OPPT-2019-0080 must be received on or before October 28, 2019.

ADDRESSES: Follow the detailed instructions provided under ADDRESSES in the Federal Register document of July 29, 2019 (84 FR 36728) (FRL-9995-76).

FOR FURTHER INFORMATION CONTACT: For technical information contact: Cindy Wheeler, Chemical Control Division (7405M), Office of Pollution Prevention and Toxics, Environmental Protection Agency, 1200 Pennsylvania Ave. NW, Washington, DC 20460-0001; telephone number: 202-566-0484; email address: wheeler.cindy@epa.gov; or Peter Gimlin, National Program Chemicals Division, Office of Pollution Prevention and Toxics, Environmental Protection Agency, 1200 Pennsylvania Ave. NW, Washington, DC 20460-0001; telephone number: 202-566-0515; email address: gimlin.peter@epa.gov.

For general information contact: The TSCA-Hotline, ABVI-Goodwill, 422 South Clinton Ave., Rochester, NY 14620; telephone number: (202) 554-1404; email address: TSCA-Hotline@epa.gov.

SUPPLEMENTARY INFORMATION: This document extends the public comment period established in the Federal Register document of July 29, 2019 (84 FR 36728) (FRL-9995-76). In that document, EPA proposed a rule concerning certain persistent, bioaccumulative, and toxic chemicals identified pursuant to section 6(h) of the Toxic Substances Control Act (TSCA). These five chemicals are: decabromodiphenyl ether; phenol, isopropylated phosphate (3:1), also known as tris(4-isopropylphenyl) phosphate; 2,4,6-tris(tert-butyl)phenol; hexachlorobutadiene; and pentachlorothiophenol. The proposed rule, if finalized, would restrict or prohibit manufacture (including import), processing, and distribution in commerce for many uses of four of these five chemical substances. EPA evaluated the uses of hexachlorobutadiene and proposed no regulatory action. For the other four, the proposal included recordkeeping requirements. Additional downstream notification requirements were proposed for phenol, isopropylated phosphate (3:1). More information on EPA's proposal can be found in the July 29, 2019 Federal Register document (84 FR 36728) (FRL-9995-76).

This document extends the comment period for 31 days, from September 27, 2019, to October 28, 2019. A lengthier extension of the comment period was requested. EPA agrees that an extension of the comment period is warranted, given the fact that the proposal and the extensive supporting materials address five separate chemical substances. However, in view of the statutory deadline requiring final action 18 months after issuance of the proposal and the considerable outreach EPA conducted prior to issuing the proposal, the Agency has concluded that a 31-day extension is sufficient.

To submit comments, or access the docket, please follow the detailed instructions provided under ADDRESSES in the Federal Register document of July 29, 2019 (84 FR 36728) (FRL-9995-76). If you have questions, consult the technical persons listed under FOR FURTHER INFORMATION CONTACT.

List of Subjects in 40 CFR Part 751

Environmental protection, Chemicals, Export notification, Hazardous substances, Import certification, Reporting and recordkeeping.

Dated: September 19, 2019.
Alexandra Dapolito Dunn,
Assistant Administrator, Office of Chemical Safety and Pollution Prevention.

[FR Doc. 2019-20785 Filed 9-25-19; 8:45 am]

BILLING CODE 6560-50-P